DEPARTMENT OF COMMERCE

International Trade Administration

[A-570-825]

Sebacic Acid from the People's Republic of China: Extension of Time Limit for Preliminary Results in Antidumping Duty Administrative Review

AGENCY: Import Administration, International Trade Administration, Department of Commerce.

ACTION: Extension of Time Limit for Preliminary Results of Antidumping Duty Administrative Review.

EFFECTIVE DATE: March 15, 2004.

FOR FURTHER INFORMATION CONTACT: Patrick Connolly at (202) 482-1779, Office of AD/CVD Enforcement, Import Administration, International Trade Administration, U.S. Department of Commerce, 14th Street and Constitution Avenue, N.W., Washington D.C. 20230.

SUPPLEMENTARY INFORMATION: On August 22, 2003, the Department published in the Federal Register a notice of initiation of administrative review of the antidumping duty order on sebacic acid from the People's Republic of China. See Initiation of Antidumping and Countervailing Duty Administrative Reviews and Request for Revocation in Part, 68 FR 50750 (Aug. 22, 2003). The period of review is July 1, 2002 through June 30, 2003. The review covers two exporters of subject merchandise to the United States.

In accordance with section 751(a)(3)(A) of the Tariff Act of 1930, as amended (the Act), the Department shall make a preliminary determination in an administrative review of an antidumping duty order within 245 days after the last day of the anniversary month of the date of publication of the order. The Act further provides, however, that the Department may extend the 245-day period to 365 days if it determines it is not practicable to complete the review within the foregoing time period. On March 9, 2004, the Department issued a revised surrogate country selection memorandum to interested parties in this proceeding, in which: 1) Pakistan had been eliminated as an acceptable surrogate country selection; 2) Egypt and Morocco had been added as acceptable surrogate country selections; and 3) economic indicators had been updated for all countries. We requested comments from interested parties for consideration in the preliminary results by April 8, 2004. In order to allow sufficient time for interested parties to comment and provide surrogate value information based on the revised surrogate country selection memorandum, it is not practicable to complete this review within the time limit mandated by section 751(a)(3)(A) of the Act. Therefore, in accordance with section 751(a)(3)(A) of the Act, we have fully extended the deadline by 120 days until July 30, 2004.

Dated: March 9, 2004.
Jeffrey May,
Deputy Assistant Secretaryfor Import Administration.

[FR Doc. 04-5801 Filed 3-12-04; 8:45 am]

BILLING CODE 3510-DS-S